FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than November 9, 2006.

A. Federal Reserve Bank of New York (Anne McEwen, Financial Specialist) 33 Liberty Street, New York, New York 10045-0001:

1. Treetops Acquisition Group LP, Treetops Acquisition Group II LP, Treetops Acquisition Group Ltd., Treetops Acquisition Group II Ltd., CAM Discount Ltd., all of Georgetown, Grand Cayman, the Edgar M. Bronfman Trusts, A,B,C,D,E,F and G, all of Montreal, Canada; Israel Discount Ltd, Tel Aviv, Israel and Discount Bancorp, New York, New York; to acquire voting shares of IDB Capital Corp, New York, New York, a Securities and Exchange Commission-registered securities broker from its bank subsidiary Israel Discount Bank of New York, New York, and thereby engage in agency transactional services for customers pursuant to section 228.25(b)(7) of Regulation Y.

Board of Governors of the Federal Reserve System, October 20, 2006.
Jennifer J. Johnson,
Secretary of the Board.

[FR Doc. E6-17886 Filed 10-24-06; 8:45 am]

BILLING CODE 6210-01-S